INTERNATIONAL TRADE COMMISSION

[USITC SE-19-010]

Government in the Sunshine Act Meeting Notice

Agency Holding the Meeting: United States International Trade Commission.

TIME AND DATE: April 9, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. No. 731-TA-1410 (Final)(Rubber Bands from Thailand). The Commission is currently scheduled to complete and file its determination and views of the Commission by April 22, 2019.

5. Vote on Inv. Nos. 701-TA-486 and 731-TA-1195-1196 (Review)(Utility Scale Wind Towers from China and Vietnam). The Commission is currently scheduled to complete and file its determinations and views of the Commission by April 29, 2019.

6. Outstanding action jackets: None.

In accordance with Commission policy, subject matter listed above, not disposed of at the scheduled meeting, may be carried over to the agenda of the following meeting.

By order of the Commission.
Issued: March 26, 2019.
William Bishop,
Supervisory Hearings and Information Officer.

[FR Doc. 2019-06174 Filed 3-27-19; 11:15 am]

BILLING CODE 7020-02-P